ENVIRONMENTAL PROTECTION AGENCY

[EPA-HQ-OPP-2007-0938; FRL-8149-2]

Pesticides; Availability of Pesticide Registration Notice Announcing Formation of Agricultural Handlers Exposure Task Force

AGENCY: Environmental Protection Agency (EPA).

ACTION: Notice.

SUMMARY: The Agency is announcing the availability of a Pesticide Registration Notice (PR Notice) regarding the formation of the Agricultural Handlers Exposure Task Force, L.L.C. This PR Notice was signed by the Agency on September 20, 2007 and is posted on the EPA website under PR Notice 2007-03. PR Notices are issued by the Office of Pesticide Programs (OPP) to inform pesticide registrants and other interested persons about important policies, procedures, and registration related decisions, and serve to provide guidance to pesticide registrants and OPP personnel. This particular PR Notice provides information concerning the formation of an industry Task Force for the development of data supporting pesticide registration, in which registrants may wish to participate.

FOR FURTHER INFORMATION CONTACT: Richard P. Dumas, Special Review and Reregistration Division (7508P), Office of Pesticide Programs, Environmental Protection Agency, 1200 Pennsylvania Ave., NW., Washington, DC 20460-0001; telephone number: (703) 308-8015; fax number: (703) 308-8005; e-mail address:dumas.richard@epa.gov.

SUPPLEMENTARY INFORMATION:

I. General Information

A. Does this Action Apply to Me?

You may be potentially affected by this notice if you register agricultural pesticide products under the Federal Insecticide, Fungicide and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0938. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. Background

A. What Action is the Agency Taking?

The Agency is announcing the issuance of a Pesticide Registration Notice [PR-2007-xx] that announces the formation of the Agricultural Handlers Exposure Task Force (AHETF). When registering or periodically reviewing an existing registration, the Agency evaluates the potential risks to pesticide handlers; that is, individuals who mix, load, or apply pesticide products. In evaluating handler risks, potential pesticide exposure is considered. The AHETF was formed to develop generic handler exposure data that can be used by EPA, and other regulatory agencies responsible for assuring the safety of pesticides. The purpose of the PR Notice is to describe what data the AHETF plans to generate, to describe how EPA expects to use the data, and to inform registrants of the opportunity to join AHETF.

III. Do PR Notices Contain Binding Requirements?

The PR Notice discussed in this notice is intended to provide information to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Agricultural commodities, Pesticides and pests.

Dated: September 20, 2007.
Debra Edwards,
Director, Office of Pesticide Programs.

[FR Doc. E7-20189 Filed 10-16-07; 8:45 am]

BILLING CODE 6560-50-S